Proclamation 8592 of October 29, 2010

National Diabetes Month, 2010

By the President of the United States of America

A Proclamation

Today, nearly 24 million Americans have diabetes, and thousands more are diagnosed each day. During National Diabetes Month, we recommit to educating Americans about the risk factors and warning signs of diabetes, and we honor all those living with or lost to this disease.

Diabetes can lead to severe health problems and complications such as heart disease, stroke, vision loss, kidney disease, nerve damage, and amputation. Type 1 diabetes, which can occur at any age but is most often diagnosed in young people, is managed by a lifetime of regular medication or insulin treatment. Type 2 diabetes is far more common, and the number of people developing or at elevated risk for the disease is growing at an alarming rate, including among our Nation’s children. Risk is highest among individuals over the age of 45, particularly those who are overweight, inactive, or have a family history of the disease, as well as among certain racial and minority groups. While less prevalent, gestational diabetes in expectant mothers may lead to a more complicated or dangerous delivery, and can contribute to their child’s obesity later in life. With more Americans becoming affected by diabetes and its consequences every day, our Nation must work together to better prevent, manage, and treat this disease in all its variations.

Obesity is one of the most significant risk factors for Type 2 diabetes. National Diabetes Month gives Americans an opportunity to redouble their efforts to reduce their chances of developing Type 2 diabetes by engaging in regular physical activity, maintaining a healthy weight, and making nutritious food choices. For people already living with diabetes, these lifestyle changes can help with the management of this disease, and delay or prevent complications.

We must also do more to reverse the climbing rates of childhood obesity so all America’s children can grow into healthy, happy, and active adults. Through her “Let’s Move!” initiative, First Lady Michelle Obama is helping to lead an Administration-wide effort to solve the epidemic of childhood obesity within a generation. “Let’s Move!” promotes nutritious foods and physical activities that lead to life-long healthy habits. I encourage all parents, educators, and concerned Americans to visit www.LetsMove.gov for more information and resources on making healthy choices for our children.

The new health insurance reform law, the Affordable Care Act, adds a number of tools for reversing the increase in diabetes and caring for those facing this disease. Insurance companies are no longer able to deny health coverage or exclude benefits for children due to a pre-existing condition, including diabetes. This vital protection will apply to all Americans by 2014. Also, all new health plans and Medicare must now provide diabetes screenings free of charge to patients, and Medicare covers the full cost of medical nutritional therapy to help seniors manage diabetes. This landmark new law also requires most chain restaurants to clearly post nutritional information on their menus, ensuring that Americans have consistent facts about food choices and can make more informed, healthier selections.

In recognition of National Diabetes Month, I commend those bravely fighting this disease; the families and friends who support them; and the health care providers, researchers, and advocates working to reduce this disease’s impact on our Nation. Together, we can take the small steps that lead to big rewards—a healthier future for our citizens and our Nation.

NOW, THEREFORE, I, BARACK OBAMA, President of the United States of America, by virtue of the authority vested in me by the Constitution and the laws of the United States, do hereby proclaim November 2010 as National Diabetes Month. I call upon all Americans, school systems, government agencies, nonprofit organizations, health care providers, and research institutions to join in activities that raise diabetes awareness and help prevent, treat, and manage the disease.

IN WITNESS WHEREOF, I have hereunto set my hand this twenty-ninth day of October, in the year of our Lord two thousand ten, and of the Independence of the United States of America the two hundred and thirty-fifth.

[FR Doc. 2010-28064

Filed 11-3-10; 8:45 am]

Billing code 3195-W1-P